DEPARTMENT OF DEFENSE

Department of the Navy

Notice of Public Hearing for the Draft Environmental Impact Statement for Kilo Wharf Extension, Apra Harbor Naval Complex, Guam, Mariana Islands

AGENCY: Department of the Navy, DoD.

ACTION: Notice.

SUMMARY: Pursuant to Section 102(2)(C) of the National Environmental Policy Act (NEPA) of 1969, as implemented by the Council on Environmental Quality Regulations (40 CFR parts 1500-1508), the Department of the Navy (DON) has prepared and filed with the U.S. Environmental Protection Agency (EPA) a Draft Environmental Impact Statement (EIS) to evaluate the potential environmental consequences of the proposed Kilo Wharf Extension, Apra Harbor Naval Complex (AHNC), Guam, Mariana Islands.

The DON will conduct one public hearing to receive oral and written comments on the Draft EIS. Federal, Territorial, local agencies and interested individuals are invited to be present or represented at the public hearing. DON representatives will be available to clarify information related to the Draft EIS. This notice announces the date and location of the public hearing for this Draft EIS.

DATES AND ADDRESSES: A public hearing will be held on Wednesday, March 28, 2007, at 6 p.m. at the Hyatt Regency Guam, 1155 Pale San Vitores Road, Tuman Bay, Guam, Mariana Islands.

FOR FURTHER INFORMATION CONTACT: Naval Facilities Engineering Command, Pacific, 258 Makalapa Drive, Suite 100, Pearl Harbor, HI 96860-3134, Attn: Ms. Nora Macariola-See, telephone 808-472-1402, facsimile 808-474-5419, E-mail: kiloeis@navy.mil.

SUPPLEMENTARY INFORMATION: A Notice of Intent to prepare this Draft EIS was published in the Federal Register on July 29, 2005 (70 FR 43848). Two public scoping meetings were held on Guam, Mariana Islands. The first public scoping meeting was held on August 30, 2005, at the Guam Hilton, 202 Hilton Road, Tumon Bay, Guam. The second public scoping meeting was originally scheduled to be held on August 31, 2005, but rescheduled due to typhoon warnings to September 2, 2005, at the Santa Rita Community Center, 183 A.B. Won Pat Lane, Santa Rita, Guam.

The proposed action is to provide adequate berthing facilities (including shore utilities and wharf-side handling area) to support the T-AKE which is a new class of multi-purpose dry cargo/ammunition ship that will replace existing ammunition ships currently forward deployed to the AHNC, Guam. As part of its ordnance support function, Commander, Navy Region Marianas (COMNAVREGMARIANAS) is charged with providing adequate facilities for the new T-AKE vessels scheduled to be in service in Guam in fiscal year 2010. The new T-AKE will be homeported in San Diego, CA, with two ships forward deployed to AHNC as ammunition ships serving Guam, Asia, the Western Pacific, and the Middle East. The two T-AKE ships will replace two T-AE ammunition ships that are currently forward-deployed to Guam. The existing Kilo Wharf, located within the AHNC in Outer Apra Harbor, is 400-feet (ft) long (122 meters (m)), and is the DoD's only dedicated ammunition wharf in the Western Pacific Region. The T-AKE is 689 ft (210 m) long, and requires 800 ft (244 m) for berthing. The proposed action is needed because Kilo Wharf is inadequate to support the T-AKE and there are no other suitable facilities on Guam available to accommodate this class of ammunition ship. The new wharf facilities must meet DoD technical design standards to ensure safe and efficient ordnance loading/offloading for the T-AKE.

COMNAVREGMARIANAS evaluated a rane of alternatives that would meet action objectives, and applied screening criteria to identify those alternatives that were “reasonable” (i.e., practical and feasible from an operations, technical, and economic standpoint). Reasonable alternatives were carried through the Draft EIS analysis. The Draft EIS considers three alternatives: (1) Extending Kilo Wharf by 400 ft (122 m) to the west (“West Extension Alternative”), (2) extending Kilo Wharf by 115 ft (35 m) to the east and 285 ft (87 m) to the west (“East-West Extension Alternative”), and (3) the No-Action Alternative, considered in accordance with Section 1502.14(d) of the NEPA regulation. The West Extension Alternative is considered the Preferred Alternative. Both the West Extension Alternative and the East-West Extension Alternative would provide adequate berthing for the T-AKE in accordance with DoD technical design standards, and include utility and infrastructure upgrades to accommodate the T-AKE. The Draft EIS also considers the No Action Alternative, which assumes that the T-AKE would be berthed at the existing Kilo Wharf with no wharf improvements or utility and infrastructure upgrade.

The Draft EIS evaluates the environmental effects associated with the wharf construction on the physical environment, land and water use, the social and economic environment, infrastructure and services, cultural resources, hazardous and regulated materials and waste, and biological resources, including marine habitats that provide ecological services. Methods to reduce or minimize impacts to affected marine habitats are also addressed. The analysis includes an evaluation of the direct, indirect, and cumulative impacts. Implementation of the proposed action is not expected to result in any significant short or long term impacts on physical, socioeconomic, or biological resources, however, there would be unavoidable adverse impacts to limited areas of marine benthic habitat.

The Draft EIS has been distributed to various Federal and Territorial agencies, elected officials, special interest groups, and interested parties, and is available for public review at the following public libraries: (1) Nieves M. Flores Memorial Library, 254 Martyr Street, Hagatna, Guam 96910; (2) Robert F. Kennedy Memorial Library, University of Guam, 303 University Drive, Mangilao, Guam 96923.

The DON will conduct a public hearing to receive oral and written comments concerning the Draft EIS. The public hearing will include a brief presentation followed by a request for comments on the Draft EIS. Federal, Territorial, and local agencies, and interested parties are invited to be present or represented at the hearings. Those who intend to speak will be asked to submit a speaker card (available at the door). Oral comments will be electronically recorded and transcribed by a stenographer. To assure accuracy of the record, all statements, both oral and written, will become part of the public record on the Draft EIS and will be responded to in the Final EIS. Equal weight will be given to both oral and written statements. In the interest of available time and to ensure that all who wish to give an oral statement have the opportunity to do so, each speaker's comments will be limited to three minutes. If a longer statement is to be presented, it should be summarized at the public hearing and the full text submitted in writing either at the hearing or faxed or mailed to: Naval Facilities Engineering Command Pacific, 258 Makalapa Drive, Ste 100, Pearl Harbor, HI 96860-3134, Attn: Ms. Nora Macariola-See, facsimile 808-474-5419, E-mail: kiloeis@navy.mil. All written comments postmarked by April 23, 2007, will become part of the official public record and will be responded to in the Final EIS.

Dated: March 6, 2007.
M.C. Holley,
Lieutenant Commander, Judge Advocate General's Corps, U.S. Navy, Federal Register Liaison Officer.

[FR Doc. E7-4312 Filed 3-8-07; 8:45 am]

BILLING CODE 3810-FF-P